DEPARTMENT OF HOMELAND SECURITY

U.S. Citizenship and Immigration Services

[CIS No. 2839-25; DHS Docket No. USCIS-2021-0005]

RIN 1615-ZB88

Termination of the Designation of Burma (Myanmar) for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of Burma (Myanmar) for Temporary Protected Status. The designation of Burma is set to expire on November 25, 2025. After reviewing country conditions and consulting with appropriate U.S. Government agencies, the Secretary determined that Burma no longer continues to meet the conditions for designation for Temporary Protected Status. The Secretary, therefore, is terminating the Temporary Protected Status designation of Burma as required by statute. This termination is effective January 26, 2026. After January 26, 2026, nationals of Burma (and aliens having no nationality who last habitually resided in Burma) who have been granted Temporary Protected Status under Burma's designation will no longer have Temporary Protected Status.

DATES: The designation of Burma for Temporary Protected Status is terminated, effective at 11:59 p.m., local time, on January 26, 2026.

FOR FURTHER INFORMATION CONTACT: Humanitarian Affairs Division, Office of Policy and Strategy, U.S. Citizenship and Immigration Services, Department of Homeland Security, (240) 721-3000.

SUPPLEMENTARY INFORMATION:

List of Abbreviations

CFR Code of Federal Regulations

DHS U.S. Department of Homeland Security

EAD Employment Authorization Document

FR Federal Register

FRN Federal Register Notice

Government U.S. Government

INA Immigration and Nationality Act

Secretary Secretary of Homeland Security

TPS Temporary Protected Status

USCIS U.S. Citizenship and Immigration Services

U.S.C. United States Code

What is Temporary Protected Status?

The Immigration and Nationality Act (INA) authorizes the Secretary of Homeland Security, after consultation with appropriate agencies of the U.S. Government, to designate a foreign state (or part thereof) for Temporary Protected Status (TPS) if the Secretary determines that certain country conditions exist. See INA sec. 244(b)(1), 8 U.S.C. 1254a(b)(1). The Secretary, in her discretion, may grant Temporary Protected Status to eligible nationals of that foreign state (or aliens having no nationality who last habitually resided in the designated foreign state). See INA sec. 244(a)(1)(A), 8 U.S.C. 1254a(a)(1)(A).

At least 60 days before the expiration of a foreign state's Temporary Protected Status designation or extension, the Secretary—after consultation with appropriate U.S. Government agencies—must review the conditions in the foreign state designated for Temporary Protected Status to determine whether the conditions for the Temporary Protected Status designation continue to be met. See INA sec. 244(b)(3)(A), 8 U.S.C. 1254a(b)(3)(A). If the Secretary determines that the conditions in the foreign state continue to meet the specific statutory criteria for Temporary Protected Status designation, Temporary Protected Status will be extended for an additional period of 6 months or, in the Secretary's discretion, 12 or 18 months. See INA sec. 244(b)(3)(A), (C), 8 U.S.C. 1254a(b)(3)(A), (C). If the Secretary determines that the foreign state no longer meets the conditions for Temporary Protected Status designation, the Secretary must terminate the designation. See INA sec. 244(b)(3)(B), 8 U.S.C. 1254a(b)(3)(B). There is no judicial review of “any determination of the [Secretary] with respect to the designation, or termination or extension of a designation of a foreign state” for Temporary Protected Status. See INA sec. 244(b)(5)(A), 8 U.S.C. 1254a(b)(5)(A).

Temporary Protected Status is a temporary immigration benefit granted to eligible nationals of a country designated for Temporary Protected Status under the Immigration and Nationality Act, or to eligible aliens without nationality who last habitually resided in the designated country. During the designation period, Temporary Protected Status beneficiaries are eligible to remain in the United States and may not be removed so long as they continue to meet the requirements of Temporary Protected Status. In addition, Temporary Protected Status beneficiaries are authorized to work and obtain an Employment Authorization Document (EAD), if requested. Temporary Protected Status beneficiaries may also apply for and be granted travel authorization as a matter of discretion. The granting of Temporary Protected Status does not result in or lead to lawful permanent resident status or any other immigration status.

To qualify for Temporary Protected Status, beneficiaries must meet the eligibility standards at INA section 244(c)(2), 8 U.S.C. 1254a(c)(2) in accordance with the implementing regulations at 8 CFR parts 244 and 1244. When the Secretary terminates a country's designation, beneficiaries return to the same immigration status or category that they maintained before Temporary Protected Status, if any (unless that status or category has since expired or been terminated), or any other lawfully obtained immigration status or category they received while registered for Temporary Protected Status, as long as it is still valid on the date Temporary Protected Status terminates.

Designation of Burma for Temporary Protected Status

Burma was initially designated for Temporary Protected Status on May 25, 2021, based on extraordinary and temporary conditions.¹ Following the initial designation, former Secretary Mayorkas extended the existing designation and newly designated Burma for Temporary Protected Status in 2022.² Most recently, the former Secretary extended Burma's designation and again newly designated Burma for Temporary Protected Status based on extraordinary and temporary conditions from May 26, 2024 to November 25, 2025.³

¹ Designation of Burma (Myanmar) for Temporary Protected Status, 86 FR 28132 (May 25, 2021).

² Extension and Redesignation of Burma (Myanmar) for Temporary Protected Status, 87 FR 58515 (Sept. 27, 2022).

³ Extension and Redesignation of Burma (Myanmar) for Temporary Protected Status, 89 FR 20682 (Mar. 25, 2024).

Secretary's Authority To Terminate the Designation of Burma for Temporary Protected Status

At least 60 days before the expiration of a foreign state's Temporary Protected Status designation or extension, the Secretary—after consultation with appropriate U.S. Government agencies—must review the conditions in the foreign state designated for Temporary Protected Status to determine whether the country continues to meet the conditions for the designation. See INA sec. 244(b)(3)(A), 8 U.S.C. 1254a(b)(3)(A). If the Secretary determines that foreign state no longer meets the conditions for the Temporary Protected Status designation, the Secretary must terminate the designation. See INA sec. 244(b)(3)(B), 8 U.S.C. 1254a(b)(3)(B). The termination may not take effect earlier than 60 days after the date the Federal Register notice of termination is published, or if later, the expiration of the most recent previous extension of the country designation. See id. The Secretary may determine the appropriate effective date of the termination and expiration of any Temporary Protected Status-related documentation, such as Employment Authorization Documents, issued or renewed after the effective date of termination. See id.; see also INA sec. 244(d)(3), 8 U.S.C. 1254a(d)(3) (providing the Secretary the discretionary “option” to allow for a certain “orderly transition” period if she determines it to be appropriate).

Reasons for the Secretary's Termination of the Temporary Protected Status Designation for Burma

Consistent with INA section 244(b)(3)(A), 8 U.S.C. 1254a(b)(3)(A), after consulting with appropriate U.S. Government agencies, the Secretary reviewed country conditions in Burma and considered whether Burma continues to meet the conditions for the designation under INA section 244(b)(1)(C), 8 U.S.C. 1254a(b)(1)(C). This review included examining: (a) whether extraordinary and temporary conditions in Burma that prevent Burmese nationals from returning to Burma in safety continue to exist, and (b) if permitting Burmese nationals to remain temporarily in the United States is contrary to the national interest of the United States.

Burma continues to face humanitarian challenges due in part to continued military operations against armed resistance and the need for humanitarian assistance.⁴ There have, however, been improvements in Burma's governance and stability at the national and local levels. On July 31, 2025, Burma's state of emergency officially ended.⁵ In line with constitutional requirements, the military government dissolved the State Administration Council, transferred power to the National Defense and Security Council,⁶ and announced that free and fair ⁷ elections will take place in four phases in December 2025 and January 2026.⁸

⁴ United Nations News, “Myanmar human rights crisis deepens as aid collapses, attacks intensify” (June 27, 2025), https://news.un.org/en/story/2025/06/1165041.

⁵ Associated Press, “Myanmar ends state of emergency and its military leader switches roles to prepare for the vote” (July 31, 2025), https://apnews.com/article/myanmar-politics-election-government-min-aung-hlaing-cf6e7ff92cc92a134c9592ad39e62770.

⁶ The New York Times, “Myanmar Lifts State of Emergency, Paving the Way for Disputed Vote” (July 31, 2025), https://www.nytimes.com/2025/07/31/world/asia/myanmar-emergency-election.html.

⁷ British Broadcasting Corporation, “Myanmar's military government says it will hold elections in next year” (Mar. 8, 2025), https://www.bbc.com/news/articles/c757qk1lnq4o.

⁸ Radio Free Asia Burmese, “Myanmar Junta Announces Schedule for December, January Election, Radio Free Asia” (Mar. 26, 2025), https://www.rfa.org/english/myanmar/2025/03/26/myanmar-junta-election-schedule/.

Burma's military government has also engaged with ethnic armed organizations on ceasefire negotiations. In January 2025, China successfully brokered a ceasefire between Burma's military government and the Myanmar National Democratic Alliance Army.⁹ In addition to this successful ceasefire, China is currently mediating ceasefire talks between Burma's military government and the Ta'ang National Liberation Army.¹⁰ These ceasefires differ from previous short-term humanitarian pauses (such as the one established after the March 2025 earthquake), because they are intended to permanently end hostilities, with clear enforcement mechanisms and obligations for both sides.¹¹

⁹ International Institute for Strategic Studies, “Crossing the Rubicon: Are Myanmar's ethnic armies prepared to go all in,” (Feb. 2025), https://myanmar.iiss.org/analysis/2025-02.

¹⁰ The Irrawaddy, “TNLA Defies Myanmar Junta Push to Cede Shan Towns in China Talks” (July 7, 2025), https://www.irrawaddy.com/news/burma/tnla-defies-myanmar-junta-push-to-cede-shan-towns-in-china-talks.html.

¹¹ International Crisis Group, “Myanmar's Dangerous Drift: Conflict, Elections and Looming Regional Détente” (July 18, 2025), https://www.crisisgroup.org/asia/south-east-asia/myanmar/b184-myanmars-dangerous-drift-conflict-elections-and-looming-regional-detente.

In parallel with the national political process, armed ethnic groups have established local and ethnic administrations, which have made tangible gains in governance and public services, signaling broader improvements in Burma's stability. These local administrations offer promising possibilities for the future, especially to fill gaps in the areas of education,¹² healthcare,¹³ the judicial system,¹⁴ and law enforcement.¹⁵ The end of the state of emergency, a constitutional timeline for elections, a credible permanent ceasefire agreement, and the increased ability of local authorities to deliver public services mark substantial steps toward political stability and national reconciliation. Based on the Department's review, the Secretary has determined that, while certain extraordinary and temporary conditions may remain, such conditions no longer hinder the safe return of aliens who are nationals of Burma to the country. Of particular significance when evaluating the conditions in Burma and the ability of Burmese nationals to safely return, a number of Burmese nationals have requested advance parole documents for travel back to Burma. This bears directly on the question of whether nationals may safely travel there. From May 25, 2021 to July 14, 2025, 26% of advance parole document requests by Burmese nationals were for intended travel to Burma.¹⁶ Additionally, in Fiscal Year (FY) 2025, U.S. Immigration and Customs Enforcement (ICE) effectuated removals to Burma.¹⁷

¹² E.g., Mon State has over 140 schools serving more than 14,000 students and employing more than 900 teachers who provide multilingual education in Mon, Burmese, and English. Office of the United Nations High Commissioner for Human Rights, “Situation of human rights in Myanmar—Report of the United Nations High Commissioner for Human Rights” (July 11, 2025), https://www.ohchr.org/en/documents/country-reports/ahrc5957-situation-human-rights-myanmar-report-united-nations-high.

¹³ E.g., The Chinland Council aims to provide universal health coverage by operating 18 hospitals, over 50 primary health centers, and 12 mobile medical teams to provide medical services in remote areas. Office of the United Nations High Commissioner for Human Rights, “Situation of human rights in Myanmar—Report of the United Nations High Commissioner for Human Rights” (July 11, 2025), https://www.ohchr.org/en/documents/country-reports/ahrc5957-situation-human-rights-myanmar-report-united-nations-high.

¹⁴ E.g., Mon State revolutionized their judicial system by establishing community-based mechanisms to address disputes and handle local civil and criminal cases. Office of the United Nations High Commissioner for Human Rights, “Situation of human rights in Myanmar—Report of the United Nations High Commissioner for Human Rights” (July 11, 2025), https://www.ohchr.org/en/documents/country-reports/ahrc5957-situation-human-rights-myanmar-report-united-nations-high.

¹⁵ E.g., Karenni state reformed its police service and has over a dozen police stations committed to democratic policing principles. Office of the United Nations High Commissioner for Human Rights, “Situation of human rights in Myanmar—Report of the United Nations High Commissioner for Human Rights” (July 11, 2025), https://www.ohchr.org/en/documents/country-reports/ahrc5957-situation-human-rights-myanmar-report-united-nations-high.

¹⁶ Department of Homeland Security, U.S. Citizenship and Immigration Services, Offices of Performance and Quality, Receipts from May 25, 2021 to July 14, 2025.

¹⁷ Department of Homeland Security, Office of Homeland Security Statistics, Analysis of ICE Removals from October 1, 2024 through May 31, 2025.

In addition, DHS has determined that the termination of the Burma designation is required because it is contrary to the national interest to permit Burmese nationals (or nationals having no nationality who last habitually resided in Burma) to remain temporarily in the United States. In the Temporary Protected Status statute, Congress expressly prohibits the Secretary from designating a country for Temporary Protected Status based on extraordinary and temporary conditions if she finds that “permitting the aliens to remain temporarily in the United States is contrary to the national interest of the United States.” INA sec. 244(b)(1)(C), 8 U.S.C. 1254a(b)(1)(C). Accordingly, as the Department and the Attorney General have long recognized, such a “national interest” assessment is an essential element of a determination whether to extend or terminate the Burma designation, which was based on “extraordinary and temporary conditions.” ¹⁸

¹⁸ Cf., e.g., Termination of Designation of Liberia Under Temporary Protected Status Program After Final 6-Month Extension, 63 FR 15437, 15438 (Mar. 31, 1998) (terminating Liberia Temporary Protected Status designation after “consultations with the appropriate agencies of the U.S. Government concerning (a) the conditions in Liberia; and (b) whether permitting nationals of Liberia . . . to remain temporarily in the United States is contrary to the national interest of the United States”).

“National interest” is an expansive standard that may encompass an array of considerations, including foreign policy, public safety (e.g., potential nexus to criminal gang membership), national security, migration factors (e.g., pull factors), immigration policy (e.g., enforcement prerogatives), and economic considerations (e.g., adverse effects on U.S. workers, impact on U.S. communities).¹⁹ Determining whether permitting a class of aliens to remain temporarily in the United States is contrary to the U.S. national interest therefore calls upon the Secretary's expertise and discretionary judgment, informed by her consultations with appropriate U.S. Government agencies.

¹⁹ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

According to the FY 2024 Department of Homeland Security (DHS) Entry/Exit Overstay Report (“Overstay Report”), Burma had a B-1/B-2 visa (nonimmigrant visitor visas for business or tourism) overstay rate of 38.15% and an F, M, and J visa (nonimmigrant visas for foreign students and exchange visitors) overstay rate of 59.13%.²⁰ The FY 2024 Burmese overstay rates are over fifteen times higher and over seventeen times higher, respectively, than the average visa overstay rates of all countries (2.33% for B-1/B-2 visas and 3.23% for F, M, and J visas).²¹ In FY 2023, the Department of Homeland Security (DHS) Entry/Exit Overstay Report (“Overstay Report”), listed Burma as having a B-1/B-2 visa (nonimmigrant visitor visas for business or tourism) overstay rate of 27.07% and an F, M, and J visa (nonimmigrant visas for foreign students and exchange visitors) overstay rate of 42.17%.²² In FY23, the Burmese overstay rates were over eight times higher and over eleven times higher, respectively, than the average visa overstay rates of all countries (3.20% for B-1/B-2 visas and 3.67% for F, M, and J visas).²³ Thus, from FY23 to FY24, the rate of Burmese overstays increased. All visa overstays, regardless of the alien's country of citizenship or nationality, are contrary to the national interest. In the Presidential Proclamation “Restricting the Entry of Foreign Nationals To Protect the United States From Foreign Terrorists and Other National Security and Public Safety Threats,” President Trump imposed a full suspension on the admission of Burmese nationals along with nationals from 11 other countries, upon country identification by the Secretary of State and after accounting for the United States' foreign policy, national security, and counterterrorism objectives.²⁴ For Burma, reasons included “deficien[cy] with regards to screening and vetting” ²⁵ and their rate of overstays, “which increases burdens on immigration and law enforcement components of the United States, and often exacerbates other risks related to national security and public safety.” ²⁶ An extension of Burma's designation for Temporary Protected Status would be in conflict with the President's directive of fully restricting the entry of Burmese nationals, and would be contrary to the national interest as the Secretary of State identified Burma as a country deficient in screening and vetting as well as a country that has taken advantage of the United States in the exploitation of our visa system.

²⁰ U.S. Customs and Border Protection, “Entry/Exit Overstay Report: Fiscal Year 2024 Report to Congress, U.S. Department of Homeland Security,” (July 16, 2025), https://www.dhs.gov/sites/default/files/2025-09/25_0912_cbp_entry-exit-overstay-report-fiscal-year-2024.pdf.

²¹ Id.

²² Restricting the Entry of Foreign Nationals To Protect The United States From Foreign Terrorists and Other National Security and Public Safety Threats, 90 FR 24497 (June 10, 2025).

²³ U.S. Customs and Border Protection, “Entry/Exit Overstay Report: Fiscal Year 2023 Report to Congress” (Aug. 5, 2024), https://www.dhs.gov/sites/default/files/2024-10/24_1011_CBP-Entry-Exit-Overstay-Report-FY23-Data.pdf.

²⁴ Restricting the Entry of Foreign Nationals To Protect The United States From Foreign Terrorists and Other National Security and Public Safety Threats, 90 FR 24497 (June 10, 2025).

²⁵ Restricting the Entry of Foreign Nationals To Protect The United States From Foreign Terrorists and Other National Security and Public Safety Threats, 90 FR 24497 (June 10, 2025).

²⁶ Id.

Further exacerbating risks to U.S. national security and public safety, DHS records indicate a share of the Burma Temporary Protected Status population has been under administrative investigation for risk to national security and/or public safety, or for attempting to obtain immigration benefits through fraud or misrepresentation.

While some extraordinary and temporary conditions may exist, the Secretary has determined that, for the foregoing reasons of national security, public safety, foreign policy, and immigration integrity, permitting Burmese nationals to remain temporarily in the United States is contrary to the U.S. national interest.

DHS estimates that there are 3,969 current approved beneficiaries under the designation of Burma for Temporary Protected Status. As of November 10, 2025, there are 236 total pending applications for the designation of Burma for Temporary Protected Status.²⁷

²⁷ Estimates as of November 10, 2025.

Effective Date of Termination of the Designation

The Temporary Protected Status statute provides that the termination of a country's Temporary Protected Status designation may not be effective earlier than 60 days after the notice is published in the Federal Register or, if later, the expiration of the most-recent previous extension. See INA sec. 244(b)(3)(B), 8 U.S.C. 1254a(b)(3)(B).

The Temporary Protected Status statute authorizes the Secretary, at her discretion, to allow for an extended “orderly transition” period with respect to the termination and the expiration of any Temporary Protected Status-related documentation, such as Employment Authorization Documents. The Secretary has determined in her discretion that a 60-day transition period is sufficient and warranted here given the Secretary's finding that continuing to permit the Burmese nationals to remain temporarily in the United States is contrary to the U.S. national interest. See INA sec. 244(d)(3), 8 U.S.C. 1254a(d)(3).²⁸ Accordingly, the termination of the Burma Temporary Protected Status designation will be effective 60 days from this notice's publication date.²⁹

²⁸ Whether to allow for an additional “orderly departure” period following a Temporary Protected Status designation termination (beyond the statutory minimum of 60 days) is an “option” left to the Secretary's unfettered discretion. INA 244(d)(3), 8 U.S.C. 1254a(d)(3). Although DHS has allowed such extended periods for certain Temporary Protected Status terminations, see, e.g., Termination of the Designation of Sudan for Temporary Protected Status, 82 FR 47228 (Oct. 11, 2017) (12-month orderly transition period); Termination of the Designation of Sierra Leone Under the Temporary Protected Status Program; Extension of Employment Authorization Documentation, 68 FR 52407 (Sept. 3, 2003) (6-month orderly transition period), certain other Temporary Protected Status designations were terminated without allowing for an extended transition periods, see, e.g., Termination of Designation of Angola Under the Temporary Protected Status Program, 68 FR 3896 (Jan. 27, 2003) (no orderly transition period); Termination of Designation of Lebanon Under Temporary Protected Status Program, 58 FR 7582 (Feb. 8, 1993) (same).

²⁹ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

DHS recognizes that Burmese Temporary Protected Status beneficiaries continue to be authorized to work during the 60-day transition period.³⁰ Accordingly, through this Federal Register notice, DHS automatically extends the validity of certain Employment Authorization Documents previously issued under the Temporary Protected Status designation of Burma through January 26, 2026. Therefore, as proof of continued employment authorization through January 26, 2026, Temporary Protected Status beneficiaries can show their Employment Authorization Documents that have the notation A-12 or C-19 under Category and a “Card Expires” date of November 25, 2025, May 25, 2024, or November 25, 2022.

³⁰ See INA 244(a)(1)(B), 8 U.S.C. 1254a(a)(1)(B); see also 8 CFR 244.13(b).

The Secretary has considered putative reliance interests in the Burma Temporary Protected Status designation, especially when considering whether to allow for an additional transition period akin to that allowed under certain previous Temporary Protected Status terminations. Temporary Protected Status, as the name itself makes clear, is an inherently temporary status. Temporary Protected Status designations are time-limited and must be periodically reviewed, and Temporary Protected Status notices clearly notify aliens of the designations' expiration dates, and whether to allow for an orderly transition period is left to the Secretary's unfettered discretion. See INA sec. 244(b)(3), (d)(3); 8 U.S.C. 1254a(b)(3), (d)(3). The statute inherently contemplates advance notice of a termination by requiring timely publication of the Secretary's determination and delaying the effective date of the termination by at least 60 days after publication of a Federal Register notice of the termination or, if later, the existing expiration date. See INA sec. 244(b)(3), (d)(3); 8 U.S.C. 1254a(b)(3), (d)(3).

Notice of the Termination of the Temporary Protected Status Designation of Burma

By the authority vested in me as Secretary under INA section 244(b)(3), 8 U.S.C. 1254a(b)(3), in consultation with the appropriate U.S. Government agencies, I have reviewed conditions in Burma and determined whether the conditions for Burma's designation for Temporary Protected Status continue to be met, specifically (a) whether extraordinary and temporary conditions in Burma prevent its nationals from returning in safety; and (b) whether permitting the nationals of Burma (and aliens having no nationality who last habitually resided in Burma) to remain temporarily in the United States is contrary to the national interest of the United States. Based on my review, I have determined that Burma no longer continues to meet the conditions for Temporary Protected Status under INA section 244(b)(1)(C), 8 U.S.C. 1254a(b)(1)(C).

Accordingly, I order as follows:

(1) Pursuant to INA section 244(b)(3)(B), 8 U.S.C. 1254a(b)(3)(B), and considering INA section 244(d)(3), 8 U.S.C. 1254a(d)(3), the designation of Burma for Temporary Protected Status is terminated effective at 11:59 p.m., local time, on January 26, 2026.

(2) Information concerning the termination of Temporary Protected Status for nationals of Burma (and aliens having no nationality who last habitually resided in Burma) will be available at local USCIS offices upon publication of this notice and through the USCIS Contact Center at 1-800-375-5283. This information will be published on the USCIS website at www.uscis.gov.

Kristi Noem,
Secretary of Homeland Security.

[FR Doc. 2025-21069 Filed 11-24-25; 8:45 am]

BILLING CODE 9111-97-P